DEPARTMENT OF ENERGY

Federal Energy Regulatory Commission

[Project No. 2698-110]

Notice of Application Accepted for Filing, Soliciting Comments, Motions To Intervene, and Protests; Duke Energy Carolinas, LLC

Take notice that the following hydroelectric application has been filed with the Federal Energy Regulatory Commission and is available for public inspection:

a. Type of Application: Temporary variance from reservoir level (Article 401) and spillway upgrade work.

b. Project No: 2698-110.

c. Date Filed: October 1, 2018.

d. Applicant: Duke Energy Carolinas, LLC (licensee).

e. Name of Project: East Fork Hydroelectric Project.

f. Location: The project is located on the East Fork of the Tuckasegee River in Jackson County, North Carolina.

g. Filed Pursuant to: Federal Power Act, 16 U.S.C. 791a-825r.

h. Applicant Contact: Jeff Lineberger, Director, Duke Energy Carolinas, LLC, 526 S. Church Street, Mail Stop EC12Y, Charlotte, NC 28202, Jeff.Lineberger@duke-energy.com.

i. FERC Contact: Michael Calloway at 202-502-8041, or michael.calloway@ferc.gov.

j. Deadline for filing comments, motions to intervene, and protests is 30 days from the issuance of this notice by the Commission. The Commission strongly encourages electronic filing. Please file motions to intervene, protests, and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE, Washington, DC 20426. The first page of any filing should include docket number P-2698-110.

k. Description of Request: The licensee is proposing to drawdown the Cedar Cliff Hydroelectric Development's reservoir 30 feet from July 2019 until December 2020 (approximately 17 months) in order to complete auxiliary spillway upgrades for project safety purposes. The auxiliary spillway will be removed, and the spillway area will be modified by rock splitting and blasting to lower the sill to 2,305 ft AMSL to accommodate 6 Fusegates. The resulting spoil material will be placed in the reservoir. The licensee is proposing mitigation measures to protect Indiana bats and northern long-eared bats. The licensee also provided revised Section 401 Water Quality Certification conditions from the North Carolina Division of Water Resources to permit the proposed work. The licensee also included a Water Quality Monitoring Plan to monitor for water quality changes due to pyrite oxidation resulting from exposure of rock during construction and spoil placement in the reservoir. Furthermore, the licensee plans to close the public access boat ramp for the duration of the drawdown, and plans to repave the parking lot and remove sediment from the launch area during the closure.

l. Locations of the Application: A copy of the application is available for inspection and reproduction at the Commission's Public Reference Room, located at 888 First Street, NE, Room 2A, Washington, DC 20426, or by calling 202-502-8371. This filing may also be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 866-208-3676 or email FERCOnlineSupport@ferc.gov, for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”; “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the temporary variance in reservoir level and spillway replacement project Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: November 5, 2018.
Kimberly D. Bose,
Secretary.

[FR Doc. 2018-24563 Filed 11-8-18; 8:45 am]

BILLING CODE 6717-01-P